DEPARTMENT OF COMMERCE

International Trade Administration

[A-570-016]

Certain Passenger Vehicle and Light Truck Tires From the People's Republic of China: Notice of Court Decision Not in Harmony With the Results of Antidumping Administrative Review; Notice of Amended Final Results

AGENCY: Enforcement and Compliance, International Trade Administration, Department of Commerce.

SUMMARY: On January 29, 2021, the U.S. Court of International Trade (CIT) issued its final judgment in Shandong Yongtai Group Co., Ltd. v. United States, Consol. Court No. 18-00077, sustaining the Department of Commerce (Commerce)'s first remand results pertaining to the administrative review of the antidumping duty (AD) order on certain passenger vehicle and light truck tires (passenger tires) from the People's Republic of China (China) covering the period of review (POR) January 27, 2015, through July 31, 2016. Commerce is notifying the public that the CIT's final judgment is not in harmony with Commerce's final results of the administrative review, and that Commerce is amending the final results with respect to the dumping margin assigned to Shandong Yongtai Chemical Co., Ltd. and its successor-in-interest Shandong Yongtai Group Co., Ltd.

DATES: Applicable February 8, 2021.

FOR FURTHER INFORMATION CONTACT: Toni Page, AD/CVD Operations, Office VII, Enforcement and Compliance, International Trade Administration, U.S. Department of Commerce, 1401 Constitution Avenue NW, Washington, DC 20230; telephone: (202) 482-1398.

SUPPLEMENTARY INFORMATION:

Background

On March 16, 2018, Commerce published its Final Results in the 2015-2016 AD administrative review of passenger tires from China.¹ In that proceeding, Commerce granted separate rate status to Shandong Yongtai Group Co., Ltd. (Yongtai Group), but did not grant separate rate status to Shandong Yongtai Chemical Co., Ltd. (Yongtai Chemical) because Yongtai Group did not identify any record information that would allow Commerce to determine that Yongtai Chemical merited a separate rate or whether Yongtai Group was the successor-in-interest of Yongtai Chemical.² Yongtai Group argued that it was the successor-in-interest of Yongtai Chemical and that Commerce should have granted separate status to Yongtai Chemical as well.³

¹ See Certain Passenger Vehicle and Light Truck Tires from the People's Republic of China: Final Results of Antidumping Duty Administrative Review and Final Determination of No Shipments; 2015-2016, 83 FR 11690 (March 16, 2018) (Final Results), and accompanying Issues and Decision Memorandum (IDM).

² See Final Results IDM at Comment 12.

³ Id.

Yongtai Group appealed Commerce's Final Results. On November 27, 2019, the CIT remanded the Final Results to Commerce to further consider the separate rate status of Yongtai Chemical and/or to consider whether Yongtai Group was the successor-in-interest to Yongtai Chemical.⁴ Following the CIT's Passenger Tires AR1 Remand Order, Commerce determined it was appropriate to reopen the record for this remand to solicit information from Yongtai Group to determine whether it is the successor-in-interest to Yongtai Chemical. On January 28, 2020, Commerce issued a supplemental questionnaire to Yongtai Group soliciting information needed to perform our successor-in-interest analysis.⁵ On February 11, 2020, Yongtai Group filed its response to Commerce's questionnaire.⁶

⁴ See Shandong Yongtai Group Co. v. United States, 415 F. Supp. 3d. 1303 (CIT 2019) (Passenger Tires AR1 Remand Order).

⁵ See Yongtai Group's Letter, “Certain Passenger Vehicle and Light Truck Tires from the People's Republic of China Supplemental Questionnaire Re: Shandong Yongtai Group Co., Ltd.,” dated January 28, 2020.

⁶ See Yongtai Group's Letter, “Supplemental Questionnaire Response of Shandong Yongtai Group Co., Ltd. (formerly Shandong Yongtai Chemical Co., Ltd.), First Administrative Review of the Antidumping Duty Order on Certain Passenger Vehicle and Light Truck Tires from the People's Republic of China (REMAND),” dated February 11, 2020 (Yongtai Group Remand SQR).

In its final remand redetermination, issued in March 2020, Commerce determined, after reconsidering the record evidence submitted by Yongtai Group in its separate rate application and in the Yongtai Group Remand SQR, that there was sufficient information on the record to find Yongtai Group to be the successor-in-interest to Yongtai Chemical and grant separate rate status to Yongtai Chemical.⁷ The CIT sustained Commerce's final redetermination and severed this action from the consolidated action with Qingdao Sentury Co. Ltd. v. United States, Court No. 18-00079 and Pirelli Tyre Co. Ltd. v. United States, Court No. 18-00080.⁸

⁷ See Final Results of Redetermination Pursuant to Court Remand, Shandong Yongtai Group Co. v. United States, Consol. Ct. No. 18-00077, Slip Op. 19-150 (March 3, 2020).

⁸ See Shandong Yongtai Group Co. v. United States, Consol. Ct. No. 18-00077, CIT Slip Op. 21-10 (January 29, 2021).

Timken Notice

In its decision in Timken,⁹ as clarified by Diamond Sawblades,¹⁰ the Court of Appeals for the Federal Circuit held that, pursuant to section 516A(c) and (e) of the Tariff Act of 1930, as amended (the Act), Commerce must publish a notice of court decision that is not “in harmony” with a Commerce determination and must suspend liquidation of entries pending a “conclusive” court decision. The CIT's January 29, 2021, judgment constitutes a final decision of the CIT that is not in harmony with Commerce's Final Results. Thus, this notice is published in fulfillment of the publication requirements of Timken.

⁹ See Timken Co. v. United States, 893 F.2d 337 (Fed. Cir. 1990) (Timken).

¹⁰ See Diamond Sawblades Manufacturers Coalition v. United States, 626 F.3d 1374 (Fed. Cir. 2010) (Diamond Sawblades).

Amended Final Results

Because there is now a final court judgment, Commerce is amending its Final Results with respect to Yongtai Group and Yongtai Chemical as follows:

Exporter or producer | Estimated weighted-average dumping margin from final determination (percent) | Estimated weighted-average dumping margin for remand redetermination (percent)
Shandong Yongtai Group Co., Ltd. formerly known as Shandong Yongtai Chemical Co., Ltd | * | 2.96
* Only Yongtai Group received a separate rate of 2.96 percent in the Final Results.

Cash Deposit Requirements

Commerce will issue revised cash deposit instructions to U.S. Customs and Border Protection (CBP).

Liquidation of Suspended Entries

Previously, the CIT enjoined Commerce from liquidating entries that were: (1) Exported by Shandong Yongtai Chemical Co., Ltd.; (2) the subject of the United States Department of Commerce's final determination in certain passenger vehicle and light truck tires from the PRC, 83 FR 11,690 (Mar. 16, 2018); (3) entered, or withdrawn from warehouse for consumption, on or after: (a) January 27, 2015, up to and including July 25, 2015; and (b) August 6, 2015, up to and including July 31, 2016. Because the CIT's ruling was not appealed and was upheld by a final and conclusive court decision, the injunction enjoying liquidation of such entries has dissolved. Commerce intends to instruct CBP to assess antidumping duties on such entries, in accordance with 19 CFR 351.212(b). We will instruct CBP to assess antidumping duties on all such entries when the importer-specific ad valorem assessment rate is not zero or de minimis. Where an import-specific ad valorem assessment rate is zero or de minimis,¹¹ we will instruct CBP to liquidate the appropriate entries without regard to antidumping duties.

¹¹ See 19 CFR 351.106(c)(2).

Notification to Interested Parties

This notice is issued and published in accordance with sections 516A(c) and (e) and 777(i)(1) of the Act.

Dated: April 14, 2021.
Christian Marsh,
Acting Assistant Secretary for Enforcement and Compliance.

[FR Doc. 2021-08259 Filed 4-20-21; 8:45 am]

BILLING CODE 3510-DS-P